DEPARTMENT OF JUSTICE

Notice of Lodging of Proposed Consent Decree Under the Comprehensive Environmental Response, Compensation, and Liability Act

On October 17, 2024, the Department of Justice lodged a proposed Consent Decree with the United States District Court for the Southern District of Florida in the lawsuit entitled United States v. Petroleum Products Corp., et al., Civil Action No. 1:91-cv-02014-BB.

In the filed Amended Complaint, the United States, on behalf of the U.S. Environmental Protection Agency (“EPA”), alleges that the Defendants are liable under the Comprehensive Environmental Response, Compensation, and Liability Act, 42 U.S.C. 9606 and 9607(a), for the response costs EPA incurred to respond to the releases and/or threatened releases of hazardous substances into the environment at the Petroleum Products Corporation Superfund Site located generally at 3150 Pembroke Road in Pembroke Park, Broward County, Florida that the Settling Defendants owned and operated. The Consent Decree requires the Settling Defendants to perform Remedial Action for the Site, pay past response costs for the Site and pay future costs related to the work. The Estimate for the Remedial Action is more than $57,000,000. The Settling Defendants are responsible for performing the Work, but the FDEP will pay for at least $30 million of it through a statutory trust fund and a petroleum product cleanup program established in 1987.

The publication of this notice opens a period for public comment on the Consent Decree. Comments should be addressed to the Assistant Attorney General, Environment and Natural Resources Division, and should refer to United States v. Petroleum Products Corp., et al., D.J. Ref. No. 90-11-3-585/3. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed in whole or in part on the public court docket without notice to the commenter.

During the public comment period, the Consent may be examined and downloaded at this Justice Department website: https://www.justice.gov/enrd/consent-decrees. If you require assistance accessing the Consent Decree, you may request assistance by email or by mail to the addresses provided above for submitting comments.

Scott Bauer,
Assistant Section Chief, Environmental Enforcement Section, Environment and Natural Resources Division.

[FR Doc. 2024-24969 Filed 10-25-24; 8:45 am]

BILLING CODE 4410-15-P